FEDERAL COMMUNICATIONS COMMISSION

47 CFR Part 73

[DA 00-1527; MM Docket No. 99-345; RM-9782]

Radio Broadcasting Services; Minerva, NY

AGENCY: Federal Communications Commission.

ACTION: Final rule.

SUMMARY: The Commission, at the request of Bible Broadcasting Associates, allots Channel 264A to Minerva, NY, as the community's first local aural service. See 64 FR 70671, December 17, 1999. Channel 264A can be allotted to Minerva in compliance with the Commission's minimum distance separation requirements with a site restriction of 2.9 kilometers (1.8 miles) northwest, at coordinates 43-48-33 NL; 74-00-41 WL, to avoid a short-spacing to Station WKBE, Channel 262B1, Warrensburg, NY, and Station WWFY, Channel 265A, Middlebury, VT. Channel 264A at Minerva, at the reference coordinates, is short-spaced to Station CBF-FM, Channel 264C1, Montreal, Quebec, Canada. Therefore, since Minerva is located within 320 kilometers (200 miles) of the U.S.-Canadian border, concurrence by the Canadian Government in the allotment, as a specially negotiated, short-spaced allotment, has been obtained. A filing window for Channel 264A at Minerva will not be opened at this time. Instead, the issue of opening a filing window for this channel will be addressed by the Commission in a subsequent order.

DATES: Effective August 21, 2000.

FOR FURTHER INFORMATION CONTACT: Leslie K. Shapiro, Mass Media Bureau, (202) 418-2180.

SUPPLEMENTARY INFORMATION: This is a synopsis of the Commission's Report and Order, MM Docket No. 99-345, adopted June 28, 2000, and released July 7, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

§ 73.202 [Amended]

2. Section 73.202(b), the Table of FM Allotments under New York, is amended by adding Minerva, Channel 264A.

Federal Communications Commission.
John A. Karousos,
Chief, Allocations Branch, Policy and Rules Division, Mass Media Bureau.

[FR Doc. 00-18081 Filed 7-17-00; 8:45 am]

BILLING CODE 6712-01-U